FEDERAL ELECTION COMMISSION

Sunshine Act Meeting

AGENCY: Federal Election Commission.

DATE AND TIME: Thursday, July 21, 2011 at 10 a.m.

PLACE: 999 E Street, NW., Washington, DC (Ninth Floor)

STATUS: This meeting will be open to the public.

Items To Be Discussed

Correction and Approval of the Minutes for the Meeting of June 30, 2011.

Draft Advisory Opinion 2011-13: Democratic Senatorial Campaign Committee.

Audit Division Recommendation Memorandum on John Edwards for President.

Proposed Final Audit Report on the Georgia Federal Elections Committee.

Proposed Policy Statement Extending a Pilot Program for Requesting Consideration of Legal Questions by the Commission.

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer. Telephone: (202) 694-1220.

Shawn Woodhead Werth,
Secretary and Clerk of the Commission.

[FR Doc. 2011-18154 Filed 7-14-11; 4:15 pm]

BILLING CODE 6715-01-P